DEPARTMENT OF HOUSING AND URBAN DEVELOPMENT

[Docket No. FR-6126-N-01]

Notice of Intent To Prepare a Draft Environmental Impact Statement for the Rose Hill Courts Redevelopment

AGENCY: Office of the Assistant Secretary for Community Planning and Development, HUD.

ACTION: Notice of Intent (NOI) to prepare an Environmental Impact Statement (EIS).

SUMMARY: The City of Los Angeles, through the Housing and Community Development Investment Department (HCID), is providing notice of its intent to prepare a combined Environmental Impact Statement (EIS) in accordance with the National Environmental Policy Act (NEPA) and Environmental Impact Report (EIR) in accordance with the California Environmental Quality Act (CEQA) (EIR/EIS) for the Rose Hill Courts Redevelopment Project located in Los Angeles, CA. The proposed action is subject to compliance with NEPA because the Housing Authority of the City of the City of Los Angeles (HACLA) is proposing a HUD Section 18 demolition/disposition and the developer is planning to use Project Based Section 8 vouchers. HACLA will consider a Disposition and Development Agreement. This Notice of Intent to prepare an EIS represents the beginning of the public scoping process. Following the scoping meeting referenced below, a Draft EIS will be prepared and ultimately circulated.

ADDRESSES: Comments relating to the scope of the EIR/EIS are requested and will be accepted by the contact persons listed below until October 20, 2018. Any person or agency interested in receiving a notice and wishing to comment on the draft EIR/EIS should contact the persons listed below. Documents are available at the following website: http://hcidla.lacity.org/NEPA-review.

FOR FURTHER INFORMATION CONTACT: Dr. Robert Manford, Environmental Affairs Officer, Planning and Land Use, Finance & Development Division of the City of Los Angeles Housing, Community Investment Department, 1200 West 7th Street, 8th Floor, Los Angeles, CA 90017. Comments and questions can also be directed to robert.manford@lacity.org, Fax: (213) 808-8914, (NEPA) and Dhiraj Narayan, Development Officer, Development Services, HACLA, RHCRedev.CEQA@hacla.org, telephone number 213-252-6120, fax number 213-252-2739 (CEQA).

Public Participation: The public will be invited to participate in the review of the Draft EIR/EIS. Release of the Draft EIR/EIS will be announced through public mailings as well as the local news media. All interested Federal, state, and local agencies, Indian tribes, groups, and the public are invited to comment on the scope of the EIR/EIS. If you are an agency with jurisdiction by law over natural or other public resources affected by the project, HCID needs to know what environmental information germane to your statutory responsibilities should be included in the EIR/EIS.

SUPPLEMENTARY INFORMATION:

Project Name and Description

HCID will consider a proposal to redevelop the project site including new construction of 191 new affordable housing units, developed in two phases. Proposed improvements include 176 parking spaces, a new property management and maintenance office, and new landscaping. The project site is 5.24-acres in size and is located at 4446 Florizel Street in Los Angeles, California. The site slopes in a west to east direction by +/− 65 feet, and it is currently developed with a total of 15 buildings, comprised of 14 residential buildings with 100-multi-family units, and one administration building (i.e., offices and a common room with a kitchen, pantry, and two bathrooms).

The project site is bounded by Florizel Street to the north; McKenzie Avenue to the east; Mercury Avenue to the south; and Boundary Avenue to the west. An onsite driveway, Victorine Street, runs in an east-west direction across the middle of the project bisecting the site into two parts: The northern part and the southern part.

Land uses surrounding the project site include the Ernest E. Debs Regional Park to the west, along Mercury Avenue and Boundary Avenue; Rose Hill Park to the north; the Rose Hill Recreation Center to the southeast. Our Lady of Guadalupe Catholic Church and Elementary School is located east of the project site, along Browne Avenue. Single-family and multi-family residential developments are located to the south and east.

The project would require the following discretionary approvals: (1) Disposition and Development Agreement approval from HACLA; (2) Grading and Building Permits from the City of Los Angeles Department of Building and Safety; (3) Public Benefits Project and Alternative Compliance approval from the Los Angeles Department of City Planning; (4) National Environmental Policy Act (NEPA) Part 58 Compliance necessary for Demolition/Disposition and Rental Assistance Demonstration (RAD) Conversion of the existing Rose Hill Courts development to Section 8 Project Based Vouchers from the United States Department of Housing and Urban Development (HUD); (5) Certification of the Environmental Impact Report/Environmental Impact Statement; (6) Haul route approval from the Los Angeles Department of Building and Safety (if required); (7) Permit for removal of street trees from the Los Angeles Board of Public Works (if required); and (8) Other discretionary and ministerial permits and approvals that may be deemed necessary, including, but not limited to, temporary street closure permits, grading permits, excavation permits, foundation permits, building permits, and sign permits in order to execute and implement the Project.

This is to be a combined environmental document, an EIR, prepared under the State of California CEQA (Public Resources Code 21000 et seq. and 14 California Code of Regulations 15000 et seq.), and an EIS, prepared under NEPA (42 U.S.C. 4321) and implementing regulations of the Council on Environmental Quality (40 CFR parts 1500-1508) and HUD (24 CFR part 58).

The Project involves funding from HUD that qualifies as an “undertaking” subject to the Programmatic Agreement (PA) Among the City of Los Angeles, the California State Historic Preservation Officer, and the Advisory Council on Historic Preservation Regarding Historic Properties Affected by use of Community Development Block Grants; McKinney Act Homeless Programs including the Emergency Shelter Grants Program, Transitional Housing, Permanent Housing for the Homeless Handicapped, and Supplemental Assistance for Facilities to Assist the Homeless; Home Investment Partnership Funds, and the Shelter Plus Care Program for compliance with 36 CFR part 800, the regulations implementing Section 106 of the National Historic Preservation Act. HCID will be initiating the Section 106 consultation process with the SHPO through the PA.

The project proposes the demolition of all 15 buildings at Rose Hill Courts and subsequent construction of 191 affordable public housing units. Rose Hill Courts was constructed in 1942 by HACLA as a low-income public housing project. Rose Hill Courts was determined eligible for listing in the National Register of Historic Places. The Rose Hill Courts complex is located at 4446 Florizel Street, on a 5.24-acre site. The site is located within the Northeast Los Angeles Community Plan, in the Rose Hills neighborhood area of the City of Los Angeles.

Alternatives to the Proposed Action

The EIR/EIS will discuss the alternatives that were considered for analysis, identify those that were eliminated from further consideration because they do not meet the stated purpose and need, and identify those that will be analyzed further. It is expected that project alternatives will continue to be developed and refined during the public scoping process, with input from the public, agencies, and other stakeholders. The EIR/EIS alternatives analysis will consist of a comparison of the impacts under each alternative pursuant to 24 CFR part 58, in addition to how well each alternative achieves the project's purpose and need. This process, which will be described in detail in the EIR/EIS, will lead to the designation of a Preferred Alternative.

At this time, it is anticipated that the following alternatives will be analyzed: (1) No Project/No Action Alternative; (2) Non-Historically Compliant Rehabilitation Alternative; and (3) Historic Rehabilitation.

1. No Project/No Action Alternative. This alternative would be the continuation of uses on the site; therefore, existing buildings and tenants would remain at the project site and no buildings or uses would be constructed or demolished.

2. Non-Historically Compliant Rehabilitation Alternative. This alternative would redevelop the existing units at Rose Hill Courts but not in a way that would preserve their historic integrity. However, the Non-Historically Compliant Rehabilitation Alternative would retain the existing 100 units on the project site and would not allow for the opportunity to increase the number of affordable housing units on the project site.

3. Historic Rehabilitation. This alternative would redevelop the existing units at Rose Hill Courts in a way that would preserve the historic integrity of the buildings. This alternative would restore the characteristics of the Garden Style design utilized in the Rose Hill Courts development, including but not limited to low-slung buildings, large open spaces, and recreational amenities.

Probable Environmental Effects

The following subject areas will be analyzed in the combined EIR/EIS for probable environmental effects: Aesthetics, Air Quality, Biological Resources, Cultural Resources, Geology and Soils, Greenhouse Gas Emissions, Hazards and Hazardous Materials, Land Use and Planning, Noise, Population and Housing, Public Services, Recreation, Transportation/Traffic, and Tribal Cultural Resources.

Scoping Meeting

A public scoping meeting will be held from 5:00 p.m. to 7:00 p.m. on October 4, 2018, at the Rose Hill Courts Community Center at 4446 Florizel Street, Los Angeles, California. The scoping process also includes the initiation of the NHPA Section 106 consultation process. We invite comments from all interested parties about the potential impacts this project may have on historic properties, cultural resources, or biological and natural resources as well as the impacts these resources may have on the project. We invite all interested parties to participate in the scoping meeting.

Lead Agencies

HCID is the responsible entity (RE) and lead agency for this project in accordance with 24 CFR part 58, “Environmental Review Procedures for Entities Assuming HUD Environmental Responsibilities.” As a RE, the HCID assumes the responsibility for environmental review, decision-making, and action that would otherwise apply to HUD under NEPA. Section 26 of the United States Housing Act (42 U.S.C. 1437x) allows units of general local government to assume NEPA responsibilities in projects involving Section 18 demolition/disposition and Section 8 Project-Based Vouchers. The project may use CDBG and HOME funds. If so, Section 104(g) of the Housing and Community Development Act of 1974 (42 U.S.C. 5304(g)) and Section 288 of the HOME Investment Partnerships Act (42 U.S.C. 12838) allow CDBG recipients and HOME jurisdictions, respectively, to assume NEPA responsibilities for CDBG and HOME projects.

In addition, the HACLA is the CEQA lead agency and is responsible for preparing an EIR. Questions may be directed to the individuals named in this notice under the heading FOR FURTHER INFORMATION CONTACT.

Dated: September 14, 2018.
Neal J. Rackleff,
Assistant Secretary.

[FR Doc. 2018-20514 Filed 9-17-18; 4:15 pm]

BILLING CODE 4210-67-P